DEPARTMENT OF COMMERCE

National Oceanic and Atmospheric Administration

RIN 0648-XA172

Marine Mammals; File No. 15453

AGENCY: National Marine Fisheries Service (NMFS), National Oceanic and Atmospheric Administration (NOAA), Commerce.

ACTION: Notice; requested change to permit application.

SUMMARY: Notice is hereby given that the Waikiki Aquarium, 2777 Kalakaua Avenue Honolulu, HI 96815 (Dr. Andrew Rossiter, Responsible Party), has requested a change to the application for a permit (File No. 15453).

DATES: Written, telefaxed, or e-mail comments must be received on or before June 23, 2011.

ADDRESSES: The application and related documents are available for review by selecting “Records Open for Public Comment” from the Features box on the Applications and Permits for Protected Species home page, https://apps.nmfs.noaa.gov, and then selecting File No. 15453 from the list of available applications.

These documents are also available upon written request or by appointment in the following offices:

Permits, Conservation and Education Division, Office of Protected Resources, NMFS, 1315 East-West Highway, Room 13705, Silver Spring, MD 20910; phone (301)713-2289; fax (301)713-0376; and

Pacific Islands Region, NMFS, 1601 Kapiolani Blvd., Rm 1110, Honolulu, HI 96814-4700; phone (808)944-2200; fax (808)973-2941.

Written comments on this application should be submitted to the Chief, Permits, Conservation and Education Division, at the address listed above. Comments may also be submitted by facsimile to (301)713-0376, or by e-mail to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Amy Sloan or Jennifer Skidmore, (301)713-2289.

SUPPLEMENTARY INFORMATION: The subject permit (File No. 15453) has been requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

On January 27, 2011 (76 FR 4867), notice was published that a scientific research and enhancement permit had been requested by the applicant to include research on two captive Hawaiian monk seals (Monachus schauinslandi) and associated enhancement activities at the Waikiki Aquarium. The applicant is requesting to amend the application to request authorization to hold up to three permanently captive Hawaiian monk seals at the Waikiki Aquarium at any given time, an increase of one animal from that described in the permit application. The purpose of the request is to allow maintenance and research on an additional non-releasable monk seal in the event one becomes available; this request is in consideration of the aging seals currently maintained at the Waikiki Aquarium.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the addendum to the original application to the Marine Mammal Commission and its Committee of Scientific Advisors.

Dated: May 18, 2011.
P. Michael Payne,
Chief, Permits, Conservation and Education Division, Office of Protected Resources, National Marine Fisheries Service.

[FR Doc. 2011-12764 Filed 5-23-11; 8:45 am]

BILLING CODE 3510-22-P